DEPARTMENT OF JUSTICE

Notice of Lodging of Proposed Consent Decree Under the Clean Air Act

On September 9, 2021, the U.S. Department of Justice (DOJ) filed a Complaint and lodged a proposed Consent Decree with the United States District Court for the Eastern District of Michigan in United States of America and Michigan Department of Environment, Great Lakes, and Energy v. Arbor Hills Energy LLC No. 5:21-cv-12098.

The proposed Consent Decree resolves several Clean Air Act and State law claims against Arbor Hills Energy LLC (AHE), including for exceedances of permitted SO2 emissions limits, at AHE's landfill gas-to-energy facility in Northville, Michigan. The AHE facility converts landfill gas (LFG), which is generated by decomposition of waste from an adjacent landfill, into electricity by burning it as fuel in four gas turbines. Under the settlement, by March 2023 AHE will either construct a renewable natural gas facility that converts LFG into pipeline quality natural gas and would virtually eliminate SO2 emissions, or install a sulfur treatment system that achieves a 64 percent reduction in SO2 emissions. Either pathway will bring AHE into compliance with the Clean Air Act and mitigate past excess SO2 emissions from the AHE facility. Based on an evaluation of the company's limited ability to pay, AHE also will pay a civil penalty of $750,000, split equally between the United States and the State of Michigan.

The publication of this notice opens a period for public comment on the proposed Consent Decree. Comments should be addressed to Assistant Attorney General, Environment and Natural Resources Division, and should refer to United States of America and Michigan Department of Environment, Great Lakes, and Energy v. Arbor Hills Energy LLC, D.J. Ref. No. 90-5-2-1-12226. All comments must be submitted no later than thirty (30) days after the publication date of this notice. Comments may be submitted by email or mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: http://www.justice.gov/enrd/consent-decrees.

We will provide a paper copy of the proposed Consent Decree upon written request and payment of the reproduction costs. Please mail your request and payment to: Consent Decree Library, U.S. DOJ—ENRD, P.O. Box 7611, Washington, DC 20044-7611.

Please enclose a check or money order for $12.00 (25 cents per page reproduction cost), payable to the United States Treasury.

Patricia A. McKenna,
Assistant Section Chief, Environmental Enforcement Section, Environment and Natural Resources Division.

[FR Doc. 2021-19928 Filed 9-14-21; 8:45 am]

BILLING CODE 4410-15-P